DEPARTMENT OF THE INTERIOR

Fish and Wildlife Service

[FWS-R3-R-2008-N0294; 30136-1265-0000-S3]

Big Stone, Neal Smith, Crane Meadows, Gravel Island, Green Bay, Harbor Island, Huron, and Michigan Islands National Wildlife Refuges

AGENCY: Fish and Wildlife Service, Interior.

ACTION: Notice of intent to prepare comprehensive conservation plans and environmental assessments; request for comments.

SUMMARY: We, the U.S. Fish and Wildlife Service (Service), intend to gather information necessary to prepare comprehensive conservation plans (CCP) and associated environmental documents for the Big Stone, Neal Smith, Crane Meadows, Gravel Island, Green Bay, Harbor Island, Huron, and Michigan Islands National Wildlife Refuges (NWRs). We furnish this notice in compliance with our CCP policy to advise other agencies and the public of our intentions, and to obtain suggestions and information on the scope of issues to be considered in the planning process. In addition, we invite comments on archeological, historic, and traditional cultural sites in accordance with the National Historic Preservation Act. Special mailings, newspaper articles, Internet postings, and other media announcements will inform people of the opportunities for written comments.

ADDRESSES: See SUPPLEMENTARY INFORMATION section of this notice for specific addresses for each refuge.

You may also find information on the CCP planning process and submit comments electronically on the planning Web site http://www.fws.gov/midwest/planning, or you may e-mail comments to r3planning@fws.gov.

FOR FURTHER INFORMATION CONTACT: See SUPPLEMENTARY INFORMATION section of this notice for specific contact names and telephone numbers for each refuge.

SUPPLEMENTARY INFORMATION: With this notice, we initiate the CCP for the Big Stone National Wildlife Refuge, Big Stone and Lac qui Parle Counties, MN; Neal Smith National Wildlife Refuge, Jasper County, IA; Crane Meadows National Wildlife Refuge, Morrison County, MN; Gravel Island National Wildlife Refuge, Door County, WI (Lake Michigan); Green Bay National Wildlife Refuge, Door County, WI (Lake Michigan); Harbor Island National Wildlife Refuge, Chippewa County, MI (Lake Huron); Huron National Wildlife Refuge, Marquette County, MI (Lake Superior); and Michigan Islands National Wildlife Refuge, with four islands in Charlevoix County, MI (Lake Michigan), and five islands in Arenac and Alpena Counties, MI (Lake Huron).

Comments or requests for more information can be directed to the individuals listed for each refuge:

• Attention: Alice Hanley, Refuge Manager, Big Stone National Wildlife Refuge, 44843 County Road 19, Odessa, MN 56276; 320-273-2191.

• Attention: Nancy Gilbertson, Refuge Manager, Neal Smith National Wildlife Refuge, P.O. Box 399, 9981 Pacific Street, Prairie City, IA 50228; 515-994-3400.

• Attention: Paul Soler, Refuge Manager, Crane Meadows National Wildlife Refuge, 19502 Iris Road, Little Falls, MN 56345; 320-632-1575.

• Attention: Patti Meyers, Refuge Manager, Gravel Island National Wildlife Refuge (Managed by Horicon NWR), W4279 Headquarters Road, Mayville, WI 53050; 920-387-2658.

• Attention: Patti Meyers, Refuge Manager, Green Bay National Wildlife Refuge (Managed by Horicon NWR), W4279 Headquarters Road, Mayville, WI 53050; 920-387-2658.

• Attention: Tracy Casselman, Refuge Manager, Harbor Island National Wildlife Refuge (Managed by Seney NWR), 1674 Refuge Entrance Rd., Seney, MI 49883; 906-586-9851.

• Attention: Tracy Casselman, Refuge Manager, Huron National Wildlife Refuge (Managed by Seney NWR), 1674 Refuge Entrance Rd., Seney, MI 49883; 906-586-9851.

• Attention: Tracy Casselman, Refuge Manager, Michigan Islands National Wildlife Refuge (northern section of Michigan Islands management at Seney NWR), 1674 Refuge Entrance Rd., Seney, MI 49883; 906-586-9851 and (south section of Michigan Islands management at Shiawassee NWR) Attention: Steve Kahl, Refuge Manager, Michigan Islands National Wildlife Refuge, 6975 Mower Road, Saginaw, MI 48601; 989-777-5930.

Public Availability of Comments

Before including your address, phone number, e-mail address, or other personal identifying information in your comment, you should know that your entire comment—including your personal identifying information—may be made publicly available at any time. While you may ask us in your comment to withhold your personal identifying information from public review, we cannot guarantee that we will be able to do so.

Background

The CCP Process

The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

Each unit of the National Wildlife Refuge System, including each of these NWRs, is established with specific purposes. The Service uses these purposes to develop and prioritize management goals and objectives within the National Wildlife Refuge System mission, and to guide which public uses will occur on these Refuges. The planning process is a way for us and the public to evaluate management goals and objectives for the best possible conservation efforts of this important wildlife habitat, while providing for wildlife-dependent recreation opportunities that are compatible with the Refuges' establishing purposes and the mission of the National Wildlife Refuge System.

The Service will conduct comprehensive conservation planning processes that will provide opportunity for Tribal, State, and local governments; agencies; organizations; and the public to participate in issue scoping and public comment for the future management of the Big Stone NWR, Neal Smith NWR, Crane Meadows NWR, Gravel Island NWR, Green Bay NWR, Harbor Island NWR, Huron NWR, and Michigan Islands NWR. We invite anyone interested to respond to the following two questions:

1. What issues do you want to see addressed in the CCP?

2. What improvements would you recommend for the refuges?

Responding to these two questions is optional; you are not required to provide information to us. Our Planning Team developed the questions to gather information about individual issues and ideas concerning these Refuges. Comments we receive will be used as part of the planning process; however, we will not reference individual comments in our reports or directly respond to them.

We will also give the public an opportunity to provide input at open houses. You can obtain a schedule of the open house events by contacting the Refuge Managers listed in the SUPPLEMENTARY INFORMATION section of this notice.

The environmental review of these projects will be conducted in accordance with the requirements of the National Environmental Policy Act of 1969, as amended (42 U.S.C. 4321 et seq.); NEPA Regulations (40 CFR parts 1500-1508); other appropriate Federal laws and regulations; and our policies and procedures for compliance with those regulations. All comments we receive from individuals on our environmental assessments become part of the official public record. We will handle requests for such comments in accordance with the Freedom of Information Act, NEPA (40 CFR 1506.6(f)), and other Departmental and Service policies and procedures.

Dated: November 7, 2008.
Charles M. Wooley,
Acting Regional Director, U.S. Fish and Wildlife Service, Ft. Snelling, Minnesota.

[FR Doc. E8-29836 Filed 12-16-08; 8:45 am]

BILLING CODE 4310-55-P